DEPARTMENT OF LABOR

Pension and Welfare Benefits Administration

116th Full Meeting of the Advisory Council on Employee Welfare and Pension Benefits Plans; Notice of Meeting

Pursuant to the authority contained in section 512 of the Employee Retirement Income Security Act of 1974 (ERISA), 29 U.S.C. 1142, the 116th open meeting of the full Advisory Council on Employee Welfare and Pension Benefit Plans will be held Wednesday, November 14, 2001, in the Secretary's Conference Room S-2508, U.S. Department of Labor Building, 200 Constitution Avenue, NW., Washington, DC 20210.

The purpose of the meeting, which will begin at 1:30 p.m. and end at approximately 3:30 p.m., is for members to present their Working Group reports and/or recommendations to be accepted by the full body and ultimately forwarded to the Secretary of Labor for her consideration. Outgoing members of the Advisory Council also will be presented certificates of appreciation for their three-years of service to the Council.

Members of the public are encouraged to file a written statement pertaining to any topics the Council studied during 2001 by submitting 20 copies on or before November 6, 2001 to Sharon Morrissey, Executive Secretary, ERISA Advisory Council, U.S. Department of Labor, Suite N-5677, 200 Constitution Avenue, NW., Washington, DC 20210. Individuals or representatives of organizations wishing to address the Advisory Council should forward their requests to the Executive Secretary or telephone (202) 219-8921 or, after October 26, 2001, (202) 693-8668. Oral presentations will be limited to ten minutes, time permitting, but an extended statement may be submitted for the record. Individuals with disabilities, who need special accommodations, should contact Sharon Morrissey by November 6 at the address indicated.

Organizations or individuals may also submit statements for the record without testifying. Twenty (20) copies of such statements should be sent to the Executive Secretary of the Advisory Council at the above address. Papers will be accepted and included in the record of the meeting if received on or before November 6, 2001.

Signed at Washington, DC this 25th day of October, 2001.
Ann L. Combs,
Assistant Secretary, Pension and Welfare Benefits Administration.

[FR Doc. 01-27359 Filed 10-30-01; 8:45 am]

BILLING CODE 4510-29-M